DEPARTMENT OF HOUSING AND URBAN DEVELOPMENT

[Docket No. FR-5481-N-19]

Notice of Proposed Information Collection: Comment Request, HUD-Administered Small Cities Program Performance Assessment Report

AGENCY: Office of the Assistant Secretary for Community Planning and Development, HUD.

ACTION: Notice.

SUMMARY: The proposed information collection requirement described below will be submitted to the Office of Management and Budget (OMB) for review, as required by the Paperwork Reduction Act. The Department is soliciting public comments on the subject proposal.

DATES: Comments Due Date: January 23, 2012.

ADDRESSES: Interested persons are invited to submit comments regarding this proposal. Comments should refer to the proposal by name and/or OMB Control Number and should be sent to: William Kelleher, Reports Liaison Officer, Department of Housing and Urban Development, 451 7th Street SW., Room 7233, Washington, DC 20410.

FOR FURTHER INFORMATION CONTACT: Eva Fontheim at (202) 402-3461 (this is not a toll free number) for copies of the proposed forms and other available documents:

SUPPLEMENTARY INFORMATION: The Department is submitting the proposed information collection to OMB for review, as required by the Paperwork Reduction Act of 1995 (44 U.S.C. Chapter 35, as amended).

This Notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: HUD-Administered Small Cities Program Performance Assessment Report.

OMB Control Number, if applicable: 2506-0020.

Description of the need for the information and proposed use: The information collected from grant recipients participating in the HUD-administered CDBG program provides HUD with financial and physical development status of each activity funded. These reports are used to determine grant recipient performance.

Agency form numbers, if applicable: The Housing and Community Development Act of 1974, as amended, requires grant recipients that receive CDBG funding to submit a Performance Assessment Report (PAR), Form 4052, on an annual basis to report on program progress; and such records as may be necessary to facilitate review and audit by HUD of the grantee's administration of CDBG funds (Section 104(e)(1)).

Members of affected public: This information collection applies solely to local governments in New York State that have HUD-administered CDBG grants that remain open or continue to generate program income.

Estimation of the total numbers of hours needed to prepare the information collection including number of respondents, frequency of response, and hours of response: The estimated number of respondents is 40. The proposed frequency of the response to the collection of information is annual. Annual recordkeeping is estimated at 160 hours for approximately 40 grant recipients.

Status of the proposed information collection: Reinstatement, with change, of a previously approved collection for which approval has expired, and a request for OMB renewal for three years. The current OMB approval will expire in October, 2011.

Authority: The Paperwork Reduction Act of 1995, 44 U.S.C. Chapter 35, as amended.

Dated: November 16, 2011.
Yolanda Chávez,
Deputy Assistant Secretary For Grant Programs.

[FR Doc. 2011-30139 Filed 11-21-11; 8:45 am]

BILLING CODE 4210-67-P